DEPARTMENT OF JUSTICE

Antitrust Division

Notice Pursuant to the National Cooperative Research and Production Act of 1993 National Warheads and Energetics Consortium

Notice is hereby given that, on November 30, 2010, pursuant to Section 6(a) of the National Cooperative Research and Production Act of 1993, 15 U.S.C. 4301 et seq. (“the Act”), National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, Franklin Engineering Group, Inc., Franklin, TN; RDM Engineering, LLC, East Brunswick, NJ; Rocky Mountain Scientific Laboratory, Centennial, CO; Rocky Research, Boulder City, NV; The Research Foundation of State University of New York, Binghamton, NY; and Wilkes University, Wilkes-Barre, PA, have been added as parties to this venture.

Also, AMTEC Corporation, Janesville, WI; Atlantic Technical Components, Inc., Middletown, NY; CAE Solutions Corp., Fremont, CA; and Clear Align, Eagleville, PA, have withdrawn as parties to this venture. No other changes have been made in either the membership or planned activity of the group research project. Membership in this group research project remains open, and NWEC intends to file additional written notifications disclosing all changes in membership.

On May 2, 2000, NWSC filed its original notification pursuant to Section 6(a) oi the Act. The Department of Justice published a notice in the Federal Register pursuant to Section 6(b) of the Act on June 30, 2010 (65 PR 40963).

The last notification was filed with the Department on August 16, 2010. A norice was published in the Federal Register pursuant to Section 6(b) of the Act on September 8, 2010 (74 FR 54652).

Patricia A. Brink,
Director of Civil Enforcement, Antitrust Division.

[FR Doc. 2010-32052 Filed 12-21-10; 8:45 am]

BILLING CODE 4410-11-M